NUCLEAR REGULATORY COMMISSION

[NRC-2011-0091]

Office of New Reactors; Proposed Revision 2 to Standard Review Plan, Section 1.0 on Introduction and Interfaces

AGENCY: Nuclear Regulatory Commission (NRC).

ACTION: Solicitation of public comment.

SUMMARY: The NRC is soliciting public comment on NUREG-0800, “Standard Review Plan for the Review of Safety Analysis Reports for Nuclear Power Plants,” on a proposed Revision 2 to Standard Review Plan (SRP), Section 1.0, “Introduction and Interfaces” (Agencywide Documents Access and Management System (ADAMS) Accession No. ML110110573). The Office of New Reactors (NRO) is revising SRP Section 1.0, which updates Revision 1 (ADAMS Accession No. ML072900601) of this section, dated November 2007, to reflect the changes as shown in the description of changes. This update also incorporates into the guidance previously issued Interim Staff Guidance on Post-Combined License Commitments (ESP/DC/COL-ISG-015, see ADAMS Accession ML093570020 (package)) with some editorial changes. A redline document comparing the November 2007 version and the current version can be found under ADAMS Accession No. ML110110566.

The NRC staff issues Federal Register notices to facilitate timely implementation of the current staff guidance and to facilitate activities associated with the review of amendment applications and review of design certification and combined license applications for NRO. The NRC staff intends to incorporate the final approved guidance into the next revision of NUREG-0800, SRP Section 1.0, Revision 2.

DATES: Comments must be filed no later than May 27, 2011. Comments received after this date will be considered, if it is practical to do so, but the Commission is able to ensure consideration only for comments received on or before this date.

ADDRESSES: Please include Docket ID NRC-2011-0091 in the subject line of your comments. Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any one of the following methods:

• Federal Rulemaking Web site: Go to http://www.regulations.gov and search for documents filed under Docket ID NRC-2011-0091. Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

You can access publicly available documents related to this notice using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov.

FOR FURTHER INFORMATION CONTACT: Mr. William F. Burton, Chief, Rulemaking and Guidance Development Branch, Division of New Reactor Licensing, Office of New Reactors, U.S. Nuclear Regulatory Commission, Washington, DC 20555-0001; telephone at 301-415-6332 or e-mail at william.burton@nrc.gov.

The NRC staff is issuing this notice to solicit public comments on the proposed SRP Section 1.0, Revision 2. After the NRC staff considers any public comments, it will make a determination regarding the proposed SRP Section 1.0, Revision 2.

Dated at Rockville, Maryland, this 14th day of April 2011.
For the Nuclear Regulatory Commission.
William F. Burton,
Chief, Rulemaking and Guidance Development Branch, Division of New Reactor Licensing, Office of New Reactors.

[FR Doc. 2011-10082 Filed 4-26-11; 8:45 am]

BILLING CODE 7590-01-P